DEPARTMENT OF HEALTH AND HUMAN SERVICES

Privacy Act of 1974; Matching Program

AGENCY: Office of Child Support Enforcement, Administration for Children and Families, Department of Health and Human Services.

ACTION: Notice of a new matching program.

SUMMARY: In accordance with the Privacy Act of 1974, as amended, the Department of Health and Human Services (HHS), Administration for Children and Families (ACF), Office of Child Support Enforcement (OCSE), is providing notice of a re-established matching program between HHS/ACF/OCSE and state agencies administering the Supplemental Nutrition Assistance Program (SNAP). The matching program compares state SNAP agency records with new hire, quarterly wage, and unemployment insurance information maintained in the National Directory of New Hires (NDNH). The outcomes of the comparisons help state agencies with establishing or verifying eligibility for applicants and recipients of SNAP benefits; reducing SNAP benefit errors; and, maintaining program integrity.

DATES: The deadline for comments on this notice is July 22, 2019. The re-established matching program will commence not sooner than 30 days after publication of this notice, provided no comments are received that warrant a change to this notice. The matching program will be conducted for an initial term of 18 months (from approximately August 16, 2019 through February 15, 2021) and, within three months of expiration, may be renewed for one additional year if the parties make no change to the matching program and certify that the program has been conducted in compliance with the agreement.

ADDRESSES: Interested parties may submit written comments on this notice to Linda Boyer, Director, Division of Federal Systems, Office of Child Support Enforcement, Administration for Children and Families, by email at linda.boyer@acf.hhs.gov, or by mail at Mary E. Switzer Building, 330 C St. SW, 5th Floor, Washington, DC 20201. Comments received will be available for public inspection at this address from 9:00 a.m. to 5:00 p.m. ET, Monday through Friday.

FOR FURTHER INFORMATION CONTACT: General questions about the matching program may be submitted to Linda Boyer, Director, Division of Federal Systems, Office of Child Support Enforcement, Administration for Children and Families, by email at linda.boyer@acf.hhs.gov, or by mail at Mary E. Switzer Building, 330 C St. SW, 5th Floor, Washington, DC 20201 or by telephone at 202-401-5410.

SUPPLEMENTARY INFORMATION: The Privacy Act of 1974, as amended (5 U.S.C. 552a), provides certain protections for individuals applying for and receiving federal benefits. The law governs the use of computer matching by federal agencies when records in a system of records, which contains information about individuals that are retrieved by name or other personal identifier, are matched with records of other federal, state, or local government records. The Privacy Act requires agencies involved in a matching program to:

1. Obtain approval of a Computer Matching Agreement, prepared in accordance with the Privacy Act, by the Data Integrity Board of any federal agency participating in a matching program.

2. Enter into a written Computer Matching Agreement

3. Provide a report of the matching program to Congress and the Office of Management and Budget (OMB), and make it available to the public, as required by 5 U.S.C. 552a(o), (u)(3)(A), and (u)(4).

4. Publish a notice of the matching program in the Federal Register as required by 5 U.S.C. 552a(e)(12) after OMB and Congress complete their review of the report, as provided by OMB Circular A-108,

5. Notify the individuals whose information will be used in the matching program that the information they provide is subject to verification through matching, as required by 5 U.S.C. 552a(o)(1)(D).

6. Verify match findings before suspending, terminating, reducing, or making a final denial of an individual's benefits or payments or taking other adverse action against the individual, as required by 5 U.S.C. 552a(p).

This matching program meets these requirements.

Dated: June 17, 2019.
Scott M. Lekan,
Commissioner, OCSE.

Participating Agencies

The Office of Child Support Enforcement (OCSE) is the source agency, and state agencies administering the Supplemental Nutrition Assistance Program (SNAP) are non-federal (recipient) agencies.

Authority for Conducting the Matching Program

The authority for conducting the matching program is contained in section 453(j)(10) of the Social Security Act (42 U.S.C. 653(j)(10)). The Agriculture Act of 2014, Public Law 113-079, amended section 11(e) of the Food and Nutrition Act of 2008 (7 U.S.C. 2020(e)(24)) by adding the requirement that the state agency shall request wage data directly from the National Directory of New Hires established under section 453(i) of the Social Security Act (42 U.S.C. 653(i)) relevant to determining eligibility to receive supplemental nutrition assistance program benefits and determining the correct amount of those benefits at the time of certification.

Purpose(s)

The purpose of the matching program is to provide each participating state agency administering SNAP with new hire, quarterly wage, and unemployment insurance information from OCSE's National Directory of New Hires (NDNH) system of records to assist them in establishing or verifying SNAP applicants' and recipients' eligibility for assistance, reducing payment errors, and maintaining program integrity, including determining whether duplicate participation exists or if the applicant or recipient resides in another state. The state SNAP agencies may also use the NDNH information for the secondary purpose of updating the recipients' reported participation in work activities and updating recipients' and their employers' contact information maintained by the state SNAP agencies.

Categories of Individuals

The categories of individuals involved in the matching program are adult members of households who have applied for or receive SNAP benefits.

Categories of Records

The categories of records involved in the matching program, which may include personal identifiers, are new hire, quarterly wage, and unemployment insurance information. The specific data elements that will be provided to HHS/ACF/OCSE in a state agency input file are:

• Submitting state code (2-digit Federal Information Processing Standard code)

• Date stamp (input file transmission date)

• Adult SNAP caseload month and year of adult SNAP applicants and recipients

• Adult SNAP applicant/recipient Social Security number

• Adult SNAP applicant/recipient's first, middle, and last name

• Name/Social Security number verification request

Optional:

• Passback data (state agency information used to identify individuals within the input file to be returned on the output file)

• Same state data indicator (indicates whether the state agency requests NDNH new hire, quarterly wage, or unemployment insurance even if the information was provided by that same state)

HHS/ACF/OCSE will compare the Social Security numbers in the state agency input file to the Social Security numbers in the NDNH, and will provide the state agency with any available new hire, quarterly wage, and available unemployment insurance information in NDNH pertaining to the individuals whose records are contained in the state agency input file. The NDNH data elements that HHS/ACF/OCSE will return to the state agency are as follows:

a. New Hire File

• New hire processed date

• Employee name and address

• Employee date and state of hire

• Federal and state employer identification numbers

• Department of Defense code

• Employer name and address

• Transmitter agency code

• Transmitter state code

• Transmitter state or agency name

b. Quarterly Wage File

• Quarterly wage processed date

• Employee name

• Federal and state employer identification numbers

• Department of Defense code

• Employer name and address

• Employee wage amount

• Quarterly wage reporting period

• Transmitter agency code

• Transmitter state code

• Transmitter state or agency name

c. Unemployment Insurance File

• Unemployment insurance processed date

• Claimant name and address

• Claimant benefit amount

• Unemployment insurance reporting period

• Transmitter state code

• Transmitter state or agency name

System(s) of Records

The NDNH data used in this matching program will be disclosed from the following OCSE system of records, as authorized by routine use 15: “OCSE National Directory of New Hires,” no. 09-80-0381, last published in full at 80 FR 17906 (Apr. 2, 2015) and partially updated at 83 FR 6591 (Feb. 14, 2018).

[FR Doc. 2019-13242 Filed 6-20-19; 8:45 am]

BILLING CODE 4184-42-P